DEPARTMENT OF ENERGY

[Docket No. RM01-8-000 ER02-2001-000]

Federal Energy Regulatory Commission

September 4, 2003.

Revised Public Utility Filing Requirements Electric Quarterly Reports; Notice of Electric Quarterly Reports Workshop

On April 25, 2002, the Commission issued Order No. 2001,¹ a final rule which requires public utilities to file Electric Quarterly Reports. Order 2001-C, issued December 18, 2002, instructs all public utilities to file these reports using Electric Quarterly Report Submission Software. This notice announces a workshop for EQR users to be held Monday, September 29 and Tuesday, September 30, 2003, at FERC headquarters, 888 First Street, NW., Washington, DC. The meeting will run from 1 p.m. to 5 p.m. on Monday and from 10 a.m. to 4 p.m. on Tuesday.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

At the workshop, Commission staff and EQR users will discuss:

• Control area naming conventions;

• Standardized names for trading hubs for the Specific Location fields;

• Product Names and definitions;

• Day-Ahead vs. Real Time reporting;

• An EQR refiling policy;

• Export data function improvements; and

• Other user issues.

This is intended to be a working meeting with considerable discussion of detailed elements of the EQR.

All interested parties are invited to attend. Documents to be discussed at the meeting will be posted on the EQR Users Group and Workshops page on the Commission's Web site at http://www.ferc.gov /docs-filing/eqr/groups-workshops.asp. For those unable to attend in person, limited access to the workshop will be available by teleconference. (WebEx, used for previous meetings, will not be used.)

Those interested in participating are asked to e-mail eqr@ferc.gov to register. There is no registration fee. In addition to the Workshop sessions noted above, there will be a working group session on Monday, September 29, 2003, from 9 a.m. to 11:30 a.m., to help frame some of the more challenging issues. This session will not be available via teleconference.

Interested parties wishing to file comments may do so under the above-captioned Docket Numbers. Those filings will be available for review at the Commission or may be viewed on the Commission's Web site at http://www.ferc.gov, using the “eLibrary” (FERRIS) link. Enter the docket number excluding the last three digits in the docket number field to access the document. For assistance, contact FERC Online Support at FERCOnlineSupport@ferc.gov or via phone at (866) 208-3676 (toll-free). For TTY, contact (202) 502-8659.

For additional information, please contact Steven Reich of FERC's Office of Market Oversight & Investigations at (202) 502-6446 or by e-mail, steve.reich@ferc.gov.

Magalie R. Salas,
Secretary.

[FR Doc. 03-23033 Filed 9-9-03; 8:45 am]

BILLING CODE 6717-01-P